NATIONAL FOUNDATION ON THE ARTS AND THE HUMANITIES

Institute of Museum and Library Services

Notice of Proposed Information Collection Requests: National Museum Survey Pilot

AGENCY: Institute of Museum and Library Services, National Foundation on the Arts and the Humanities.

ACTION: Notice, request for comments, collection of information.

SUMMARY: The Institute of Museum and Library Services (IMLS), as part of its continuing effort to reduce paperwork and respondent burden, conducts a pre-clearance consultation program to provide the general public and Federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this Notice is to announce its plan to request approval for a pilot National Museum Survey (NMS). A copy of the proposed information collection request can be obtained by contacting the individual listed below in the ADDRESSES section of this Notice.

DATES: Written comments must be submitted to the office listed in the addressee section below on or before January 14, 2023.

ADDRESSES: Send comments to Connie Bodner, Ph.D., Director of Grants Policy and Management, Office of Grants Policy and Management, Institute of Museum and Library Services, 955 L'Enfant Plaza North SW, Suite 4000, Washington, DC 20024-2135. Dr. Bodner can be reached by telephone: 202-653-4636, or by email at cbodner@imls.gov. Office hours are from 8:30 a.m. to 5 p.m., E.T., Monday through Friday, except Federal holidays. Persons who are deaf or hard of hearing (TTY users) can contact IMLS at 202-207-7858 via 711 for TTY-Based Telecommunications Relay Service.

FOR FURTHER INFORMATION CONTACT: Jake Soffronoff, Survey Methodologist, Office of Research and Evaluation, Institute of Museum and Library Services, 955 L'Enfant Plaza North SW, Suite 4000, Washington, DC 20024-2135. Mr. Soffronoff can be reached by telephone at 202-653-4648, or by email at jsoffronoff@imls.gov. Persons who are deaf or hard of hearing (TTY users) can contact IMLS at 202-207-7858 via 711 for TTY-Based Telecommunications Relay Service.

SUPPLEMENTARY INFORMATION: IMLS is particularly interested in public comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

The Institute of Museum and Library Services is the primary source of Federal support for the Nation's libraries and museums. We advance, support, and empower America's museums, libraries, and related organizations through grantmaking, research, and policy development. To learn more, visit www.imls.gov.

II. Current Actions

The United States boasts a diverse array of museums of different sizes including history, art, and science and technology museums, as well as children's museums, zoos, aquariums, nature centers, public gardens, historic houses, academic museums and galleries, and specialized museums. Together, they steward living and non-living collections and, through their programs and services, contribute to the cultural health, economic vitality, and social well-being of the communities they serve. In a data-driven world, a regular sector-wide data-gathering effort is needed to document the reach of the museum sector and the services it provides.

IMLS is exercising its authority under 20 U.S.C. 9108 to design a new survey that fills this need: the National Museum Survey. The NMS will be a voluntary survey that aims to capture the scope and scale of museums' presence and reach within the United States over time. The survey will collect foundational, high-level data directly from museums to inform policymakers, the museum field, and the public about the social, cultural, educational, and economic roles that the nation's diverse museums play in American society.

Agency: Institute of Museum and Library Services.

Title: National Museum Survey Pilot.

OMB Control Number: 3137-NEW.

Agency Number: 3137.

Respondents/Affected Public: Museum senior administrators.

Total Estimated Number of Annual Respondents: 800.

Frequency of Response: Once per request.

Average Minutes/Hours per Response: 2 hours.

Total Estimated Number of Annual Burden Hours: 1,600 hours.

Cost Burden (dollars): To be determined.

Public Comments Invited: Comments submitted in response to this Notice will be summarized and/or included in the request for OMB's clearance of this information collection.

Dated: November 9, 2022.
Suzanne Mbollo,
Grants Management Specialist, Institute of Museum and Library Services.

[FR Doc. 2022-24870 Filed 11-14-22; 8:45 am]

BILLING CODE 7036-01-P